DEPARTMENT OF LABOR

Employment and Training Administration

[TA-W-60,051]

Cambridge Lee Industries, LLC, Plant #4, Including On-Site Leased Workers of Advance Personnel and Gage Personnel, Reading, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on October 17, 2006, applicable to workers of Cambridge Lee Industries, LLC, Plant #4, including on-site leased workers of Advance Personnel and Gage Personnel, Leesport, Pennsylvania. The notice was published in the Federal Register on November 6, 2006 (71 FR 65003).

At the request of the State agency and a company official, the Department reviewed the certification for workers of the subject firm. New information shows that the Department did not correctly identify the city location of the subject firm in the decision document issued on October 17, 2006. The city location of the subject firm should read Reading, Pennsylvania.

Accordingly, the Department is amending this certification to correctly identify the city location to read Reading, Pennsylvania.

The intent of the Department's certification is to include all workers of Cambridge Lee Industries, LLC, Plant #4, Reading, Pennsylvania who were adversely affected by increased company imports.

The amended notice applicable to TA-W-60,051 is hereby issued as follows:

All workers of Cambridge Lee Industries, LLC, Plant #4, Reading, Pennsylvania, including on-site leased workers of Advance Personnel and Gage Personnel (TA-W-60,051), who became totally or partially separated from employment on or after August 29, 2005, through October 17, 2008, are eligible to apply for adjustment assistance under Section 223 of the Trade Act of 1974 and are also eligible to apply for alternative trade adjustment assistance under Section 246 of the Trade Act of 1974.

Signed at Washington, DC, this 14th day of November 2006.
Richard Church,
Certifying Officer, Division of Trade Adjustment Assistance.

[FR Doc. E6-19718 Filed 11-21-06; 8:45 am]

BILLING CODE 4510-30-P